OFFICE OF MANAGEMENT AND BUDGET

Office of Federal Procurement Policy

DEPARTMENT OF DEFENSE

GENERAL SERVICES ADMINISTRATION

NATIONAL AERONAUTICS AND SPACE ADMINISTRATION

48 CFR Parts 2, 4, 6, 27, and 52

[FAR Case 2020-010, Docket No. FAR-2020-0010, Sequence No. 1]

RIN 9000-AO12

Federal Acquisition Regulation: Small Business Innovation Research and Technology Transfer Programs

AGENCY: Office of Federal Procurement Policy (OFPP), Office of Management and Budget (OMB); Department of Defense (DoD); General Services Administration (GSA); and National Aeronautics and Space Administration (NASA).

ACTION: Proposed rule; withdrawal.

SUMMARY: OFPP, DoD, GSA, and NASA (collectively referred to as the Federal Acquisition Regulatory Council, or FAR Council) are withdrawing the proposed rule to amend the Federal Acquisition Regulation (FAR) titled: Small Business Innovation Research and Technology Transfer. The FAR Council will re-evaluate implementation following the finalization of the Revolutionary FAR Overhaul initiative. Accordingly, this proposed rule is withdrawn, and the FAR case is closed.

DATES: The proposed rule published on April 7, 2023, at 88 FR 20822, is withdrawn as of June 12, 2025.

ADDRESSES: You can view and download related documents and public comments from the Federal eRulemaking portal at https://www.regulations.gov by searching for “FAR Case 2020-010”.

FOR FURTHER INFORMATION CONTACT: FAR Policy at 202-969-4075 or by email at farpolicy@gsa.gov. Please cite “FAR Case 2020-010”.

SUPPLEMENTARY INFORMATION: On April 7, 2023, DoD, GSA, and NASA proposed to amend the FAR to implement changes related to data rights in the Small Business Administration (SBA) Policy Directive for the Small Business Innovation Research (SBIR) and Small Business Technology Transfer (STTR) Programs, effective May 2, 2019 (see 84 FR 12794). This proposed rule would have added references to the SBA STTR program, acknowledged the unique competition requirements for phase III contracts under the SBIR and STTR programs, and revised definitions, allocation of rights, protection period, rights notice, and data rights marking provisions related to the SBIR/STTR programs. The FAR Council will re-evaluate implementation following the finalization of the Revolutionary FAR Overhaul initiative. Accordingly, the proposed rule published at 88 FR 20822 on April 7, 2023, is withdrawn, and FAR Case 2020-010 is closed. Consideration of any future amendments to the FAR related to the SBA SBIR and STTR Programs will be accomplished under a new FAR case.

List of Subjects in 48 CFR Parts 2, 4, 6, 27, and 52

Government procurement.

William F. Clark,
Director, Office of Government-wide Acquisition Policy, Office of Acquisition Policy, Office of Government-wide Policy.

[FR Doc. 2025-10609 Filed 6-11-25; 8:45 am]

BILLING CODE 6820-EP-P